DEPARTMENT OF THE INTERIOR

Bureau of Land Management

[LLNVS00000 L58530000.PN0000 241A; N-92525; 10-08807; MO#4500090607; TAS:14X5232]

Notice of Realty Action: Recreation and Public Purposes Act Classification (N-92525) for a Department of Motor Vehicles Facility, Clark County, NV

AGENCY: Bureau of Land Management, Interior.

ACTION: Notice.

SUMMARY: The Bureau of Land Management (BLM) has examined and found suitable for classification for lease and conveyance under the provisions of the Taylor Grazing Act and the Recreation and Public Purposes (R&PP) Act, as amended, approximately 20 acres of public land located near the corner of West Silverado Ranch Boulevard and South Valley View Boulevard in Clark County, Nevada. The State of Nevada proposes to use the land for a Department of Motor Vehicles (DMV) facility.

DATES: Interested parties may submit written comments regarding the proposed classification of the land for lease and/or subsequent conveyance of the land, and the environmental assessment (EA), until June 16, 2016.

ADDRESSES: Send written comments to the BLM Division of Lands, Assistant Field Manager, 4701 N. Torrey Pines Drive, Las Vegas, NV 89130, faxed to 702-515-5010, Attn: Kerri-Anne Thorpe, or emailed to kthorpe@blm.gov.

FOR FURTHER INFORMATION CONTACT: Kerri-Anne Thorpe, (702) 515-5196, or kthorpe@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel of public land is located in the southern part of the Las Vegas Valley near the corner of West Silverado Ranch Boulevard and South Valley View Boulevard in Las Vegas, Nevada and is legally described as:

Mount Diablo Meridian, Nevada

T. 22 S., R. 61 E.,

Sec. 29, NE¼NW¼NW¼NW¼, E½NW¼NW¼NW¼NW¼, SW¼NW¼NW¼NW¼, W½SE¼NW¼NW¼NW¼, SW¼NW¼NW¼, W½NW¼SE¼NW¼NW¼ and W½SW¼SE¼NW¼NW¼.

The area described contains 20 acres, more or less, in Clark County.

In accordance with the R&PP Act, the State of Nevada has filed an application in which it proposes to develop the above-described land as a DMV facility that will consist of a full service DMV building with related facilities. The related facilities include a drive test parking lot, motorcycle test course, Commercial Drivers' License test course, employee and visitor parking lots, landscaping, lighting, walkways, drainage, irrigation, restrooms, concessions, utilities, and ancillary improvements. Additional detailed information pertaining to this application, plan of development, and site plan is located in case file N-92525, which is available for review at the BLM Las Vegas Field Office at the above address.

The land identified is not needed for any Federal purpose. The lease and conveyance is consistent with the BLM Las Vegas Resource Management Plan dated October 5, 1998, and would be in the public interest. The State of Nevada, a qualified applicant under the R&PP Act, has not applied for more than the 640 acre limitation consistent with the regulations at 43 CFR 2741.7(a)(2), and has submitted a statement in compliance with the regulations at 43 CFR 2741.4(b). Subject to limitations prescribed by law and regulation, prior to patent issuance, the holder of any right-of-way grant within the lease area may be given the opportunity to amend the right-of-way grant for conversion to a new term, including perpetuity, if applicable.

The lease and conveyance, when issued, will be subject to the provisions of the R&PP Act and applicable regulations of the Secretary of the Interior, and will contain the following reservations to the United States:

1. A right-of-way thereon for ditches or canals constructed by the authority of the United States, Act of August 30, 1890 (43 U.S.C. 945); and

2. All minerals shall be reserved to the United States, together with the right to prospect for, mine, and remove such deposits from the same under applicable law and such regulations as the Secretary of the Interior may prescribe.

3. Any lease and conveyance will also be subject to valid existing rights.

Upon publication of this notice in the Federal Register, the land described above will be segregated from all other forms of appropriation under the public land laws, including the general mining laws, except for conveyance under the R&PP Act, leasing under the mineral leasing laws, and disposals under the mineral material disposal laws.

Interested parties may submit written comments on the suitability of the land for a DMV Facility. Comments on the classification are restricted to whether the land is physically suited for the proposal, whether the use will maximize the future use or uses of the land, whether the use is consistent with local planning and zoning, or if the use is consistent with state and federal programs.

Interested parties may also submit written comments regarding the specific use proposed in the application and plan of development, and whether the BLM followed proper administrative procedures in reaching the decision to convey under the R&PP Act.

Before including your address, phone number, email address, or other personal identifying information in your comment, you should be aware that your entire comment—including your personal identifying information—may be made publicly available at any time. While you can ask us in your comment to withhold your personal identifying information from public review, we cannot guarantee that we will be able to do so.

Any adverse comments will be reviewed by the BLM Nevada State Director, who may sustain, vacate, or modify this realty action. In the absence of any adverse comments, the decision will become effective on July 1, 2016. The lands will not be available for lease and subsequent conveyance until after the decision becomes effective.

Authority: 43 CFR 2741.5(h).

Frederick Marcell,
Acting Assistant Field Manager, Las Vegas Field Office, Division of Lands.

[FR Doc. 2016-10207 Filed 4-29-16; 8:45 am]

BILLING CODE 4310-HC-P